FEDERAL MARITIME COMMISSION

Notice of Agreements Filed

The Commission hereby gives notice of the filing of the following agreements under the Shipping Act of 1984. Interested parties may obtain copies of agreements by contacting the Commission's Office of Agreements at (202) 523-5793 or via e-mail at tradeanalysis@fmc.gov. Interested parties may submit comments on an agreement to the Secretary, Federal Maritime Commission, Washington, DC 20573, within 10 days of the date this notice appears in the Federal Register.

Agreement No.: 011830-004.

Title: Indamex/APL Agreement.

Parties: American President Lines, Ltd./APL Co. PTE Ltd. (“APL”); CMA CGM, S.A. (“CMA”); Contship Containerlines (“Contship”); and the Shipping Corporation of India, Ltd. (“SCI”).

Filing Party: Wayne R. Rohde, Esq.; Sher & Blackwell, LLP; 1850 M Street, NW., Suite 900; Washington, DC 20036.

Synopsis: The amendment deletes SCI as a party; inserts CP Ships (UK) Limited/CP Ships in place of Contship; corrects CMA's address; adjusts the vessel size, provision of vessels, and space allocation; deletes obsolete language; and restates the agreement.

Agreement No.: 011887-002.

Title: Zim/CCNI Space Charter Agreement.

Parties: Zim Integrated Shipping Services, Ltd. and Compania Chilena de Navegacion Interoceanica.

Filing Party: Wayne R. Rohde, Esq.; Sher & Blackwell; 1850 M Street, NW., Suite 900; Washington, DC 20036.

Synopsis: The amendment adds authority for the parties to provide one another with space for the movement of empty containers.

Agreement No.: 201103-004.

Title: Memorandum Agreement of the Pacific Maritime Association of December 14, 1983 Concerning Assessments to Pay ILWU-PMA Employee Benefit Costs, as Amended, Through June 13, 2005.

Parties: Pacific Maritime Association and International Longshore and Warehouse Union.

Filing Party: Matthew J. Thomas, Esq.; Troutman Sanders LLP; 401 9th Street, NW., Suite 1000; Washington, DC 20004-2134.

Synopsis: The amendment adjusts assessment rates under the agreement.

By Order of the Federal Maritime Commission.
Dated: June 16, 2005.
Bryant L. VanBrakle,
Secretary.

[FR Doc. 05-12248 Filed 6-21-05; 8:45 am]

BILLING CODE 6730-01-P